DEPARTMENT OF VETERANS AFFAIRS

Advisory Committee on Disability Compensation, Notice of Meeting

The Department of Veterans Affairs (VA) gives notice under the Federal Advisory Committee Act, 5 U.S.C. ch. 10, that a virtual meeting of the Advisory Committee on Disability Compensation (Committee) will be held virtually on June 27 and June 28, 2023. The meeting sessions will begin, and end as follows:

Dates | Times
Tuesday, June 27, 2023 | 9 a.m.-12:00 p.m. Eastern Standard Time (EST).
Wednesday, June 28, 2023 | 9 a.m.-12:15 p.m. EST.

The meeting sessions are open to the public.

The purpose of the Committee is to advise the Secretary of Veterans Affairs on the maintenance and periodic readjustment of the VA Schedule for Rating Disabilities (VASRD).

The Committee is to assemble and review relevant information relating to the nature and character of disabilities arising during service in the Armed Forces, provide an ongoing assessment of the effectiveness of the rating schedule, and give advice on the most appropriate means of responding to the needs of Veterans relating to disability compensation.

On June 27 and June 28, 2023, the agenda will include updates on the VASRD and briefings from various staffs on new and ongoing VA initiatives and priorities.

In addition, on June 28, 2023, the public comment period will be open for 30-minutes from 11:40 a.m. to 12:10 p.m. EST. The public can also submit one-page summaries of their written statements for the Committee's review. Public comments may be received no later than June 20, 2023, for inclusion in the official meeting record. Please send these comments to Jadine Piper of the Veterans Benefits Administration, Compensation Service, at 21C_ACDC.VBACO@va.gov.

Members of the public who wish to obtain a copy of the agenda should contact Jadine Piper at 21C_ACDC.VBACO@va.gov, and provide their name, professional affiliation, email address and phone number. The call-in number (United States, Chicago) for those who would like to attend the meeting is: 872-701-0185; phone conference ID: 641 430 042#. Members of the public may also access the meeting by pasting the following URL into a web browser: https://msteams.link/HF1R.

Dated: June 1, 2023.
Jelessa M. Burney,
Federal Advisory Committee Management Officer.

[FR Doc. 2023-12041 Filed 6-5-23; 8:45 am]

BILLING CODE P